DEPARTMENT OF TRANSPORTATION

Federal Aviation Administration

14 CFR Part 39

[Docket No. FAA-2005-20078; Directorate Identifier 2004-NM-210-AD; Amendment 39-14068; AD 2005-08-16]

RIN 2120-AA64

Airworthiness Directives; BAE Systems (Operations) Limited Model Avro 146-RJ Series Airplanes

AGENCY: Federal Aviation Administration (FAA), Department of Transportation (DOT).

ACTION: Final rule.

SUMMARY: The FAA is adopting a new airworthiness directive (AD) for all BAE Systems (Operations) Limited Model Avro 146-RJ series airplanes. This AD requires an inspection of the Thales Avionics distance bearing indicator (DBI) to determine part number (P/N) and serial number (S/N), and replacement of the affected DBI with a new or modified DBI. This AD is prompted by a report of defective electrical insulators in DBIs. We are issuing this AD to prevent a short circuit in the DBI due to defective electrical insulation, which could potentially cause a loss of primary navigation instruments (such as airspeed indicator, altimeter, and global positioning system (GPS) information).

DATES: This AD becomes effective May 31, 2005.

The incorporation by reference of a certain publication listed in the AD is approved by the Director of the Federal Register as of May 31, 2005.

ADDRESSES: For service information identified in this AD, contact British Aerospace Regional Aircraft American Support, 13850 Mclearen Road, Herndon, Virginia 20171.

Docket: The AD docket contains the proposed AD, comments, and any final disposition. You can examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street, SW., room PL-401, Washington, DC. This docket number is FAA-2005-20078; the directorate identifier for this docket is 2004-NM-210-AD.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION: The FAA proposed to amend 14 CFR part 39 with an AD for all BAE Systems (Operations) Limited Model Avro 146-RJ series airplanes. That action, published in the Federal Register on January 19, 2005 (70 FR 2987), proposed to require an inspection of the Thales Avionics distance bearing indicator (DBI) to determine part number (P/N) and serial number (S/N), and replacement of the affected DBI with a new or modified DBI.

Comments

We provided the public the opportunity to participate in the development of this AD. No comments have been submitted on the proposed AD or on the determination of the cost to the public.

Clarification of Changes to Proposed AD

In addition to other minor editorial changes to the AD, additional clarifications have been made.

The requirements of new paragraph (g) (“Parts Installation”) in this final rule apply to all affected airplanes. Therefore, we revised paragraph (f)(1) of the AD to properly limit those provisions (no further action) to paragraph (f).

We revised paragraphs (f)(2) and (g) to clarify that the DBI replacement is conditional on a finding of certain part/serial numbers. We combined paragraph (f)(2) and (g), and redesignated the subsequent paragraphs accordingly.

Conclusion

We have carefully reviewed the available data and determined that air safety and the public interest require adopting the AD with the changes described previously. We have determined that these changes will neither increase the economic burden on any operator nor increase the scope of the AD.

Costs of Compliance

This AD will affect about 54 airplanes of U.S. registry. The required actions will take about 1 work hour per airplane, at an average labor rate of $65 per work hour. Required parts will cost about $728 per airplane. Based on these figures, the estimated cost of the AD for U.S. operators is $42,822, or $793 per airplane.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2005-08-16 BAE Systems (Operations) Limited (Formerly British Aerospace Regional Aircraft): Amendment 39-14068. Docket No. FAA-2005-20078; Directorate Identifier 2004-NM-210-AD.

Effective Date

(a) This AD becomes effective May 31, 2005.

Affected ADs

(b) None.

Applicability

(c) This AD applies to all BAE Systems (Operations) Limited Model Avro 146-RJ series airplanes, certificated in any category.

Unsafe Condition

(d) This AD was prompted by a report of defective electrical insulators in distance bearing indicators (DBI). We are issuing this AD to prevent a short circuit in the DBI due to defective electrical insulation, which could potentially cause a loss of primary navigation instruments (such as airspeed indicator, altimeter, and global positioning system (GPS) information).

Compliance

(e) You are responsible for having the actions required by this AD performed within the compliance times specified, unless the actions have already been done.

Part Number Inspection

(f) Within four months after the effective date of this AD, inspect the Thales Avionics DBI to determine whether a part number (P/N) and serial number (S/N) listed in the Effectivity of BAE Systems (Operations) Limited Modification Service Bulletin SB.34-371-70671A, dated September 19, 2003, is installed. Instead of an inspection of the DBI, a review of airplane maintenance records is acceptable if the P/N and the S/N of the DBI can be positively determined from that review.

(1) If the DBI P/N and S/N do not match those listed in the service bulletin, no further action is required by this paragraph.

(2) If the DBI P/N and S/N do match those listed in the service bulletin, within four months after the effective date of this AD, replace the DBI in accordance with the Accomplishment Instructions of the service bulletin. The replacement part must be either a new DBI having P/N 63543-280-1 and a S/N not listed in the service bulletin, or a new DBI having P/N 63543-280-2.

Parts Installation

(g) As of the effective date of this AD, no person may install a DBI with a P/N and S/N listed in the Effectivity of BAE Systems (Operations) Limited Modification Service Bulletin SB.34-371-70671A, dated September 19, 2003, on any airplane unless the DBI has been modified in accordance with paragraph (f)(2) of this AD.

No Reporting

(h) Although the service bulletin references a reporting requirement in paragraph 2.C.2, “Documentation,” that reporting is not required by this AD.

Alternative Methods of Compliance (AMOCs)

(i) The Manager, International Branch, ANM-116, Transport Airplane Directorate, FAA, has the authority to approve AMOCs for this AD, if requested in accordance with the procedures found in 14 CFR 39.19.

Related Information

(j) British airworthiness directive G-2004-0006, dated March 2, 2004, also addresses the subject of this AD.

Material Incorporated by Reference

(k) You must use BAE Systems (Operations) Limited Modification Service Bulletin SB.34-371-70671A, dated September 19, 2003, to perform the actions that are required by this AD, unless the AD specifies otherwise. The Director of the Federal Register approves the incorporation by reference of this document in accordance with 5 U.S.C. 552(a) and 1 CFR part 51. To get copies of the service information, contact British Aerospace Regional Aircraft American Support, 13850 Mclearen Road, Herndon, Virginia 20171. To view the AD docket, contact the Docket Management Facility, U.S. Department of Transportation, 400 Seventh Street SW., room PL-401, Nassif Building, Washington, DC. To review copies of the service information, contact the National Archives and Records Administration (NARA). For information on the availability of this material at the NARA, call (202) 741-6030, or go to http://www.archives.gov/federal_register/code_of_federal_regulations/ibr_locations.html.

Issued in Renton, Washington, on April 14, 2005.
Ali Bahrami,
Manager, Transport Airplane Directorate, Aircraft Certification Service.

[FR Doc. 05-8096 Filed 4-22-05; 8:45 am]

BILLING CODE 4910-13-P